DEPARTMENT OF DEFENSE

Office of the Secretary

[Transmittal No. 25-32]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-32 and Policy Justification.

Dated: January 12, 2026.
Stephanie J. Bost,
Alternate OSD Federal Register Liaison Officer, Department of Defense.

BILLING CODE 6001-FR-P

BILLING CODE 6001-FR-C

Transmittal No. 25-32

Notice of Proposed Issuance of Letter of Offer Pursuant to Section 36(b)(1) of the Arms Export Control Act, as amended

(i) Prospective Purchaser: Government of Ukraine

(ii) Total Estimated Value:

Major Defense Equipment | $ 0
Other | $310.5 million
TOTAL | $310.5 million

Funding Source: Foreign Military Financing

(iii) Description and Quantity or Quantities of Articles or Services under Consideration for Purchase: The Government of Ukraine requests to buy equipment and services in support of its F-16 aircraft.

Major Defense Equipment (MDE):

None

Non-Major Defense Equipment:

The following non-MDE items will be included: aircraft modifications and upgrades; personnel training related to operation, maintenance, and sustainment support; spare parts, consumables and accessories, and repair and return support; ground handling equipment; classified and unclassified software delivery and support; classified and unclassified publications and technical documentation; studies and surveys; United States (U.S.) Government and contractor engineering, technical, and logistics support services; and other related elements of logistics and program support.

(iv) Military Department: Air Force (UP-D-TAD)

(v) Prior Related Cases, if any: NW-D-QAD, KA-D-QAE; JU-D-QAA; JU-D-QAB

(vi) Sales Commission, Fee, etc., Paid, Offered, or Agreed to be Paid: None known at this time

(vii) Sensitivity of Technology Contained in the Defense Article or Defense Services Proposed to be Sold: None

(viii) Date Report Delivered to Congress: May 2, 2025

* as defined in Section 47(4) of the Arms Export Control Act.

POLICY JUSTIFICATION

Ukraine—F-16 Training and Sustainment

The Government of Ukraine requests to buy equipment and services in support of its F-16 aircraft. The following non-MDE items will be included: aircraft modifications and upgrades; personnel training related to operation, maintenance, and sustainment support; spare parts, consumables and accessories, and repair and return support; ground handling equipment; classified and unclassified software delivery and support; classified and unclassified publications and technical documentation; studies and surveys; U.S. Government and contractor engineering, technical, and logistics support services; and other related elements of logistics and program support. The estimated total cost is $310.5 million.

This proposed sale will support the foreign policy goals and national security objectives of the U.S. by improving the security of a partner country that is a force for political stability and economic progress in Europe.

The proposed sale will improve Ukraine's capability to meet current and future threats by ensuring its pilots are effectively trained and by increasing its interoperability with the U.S. through comprehensive training with the U.S. Air Force. This proposed sale aligns with international coalition contributions for the establishment of Ukraine's F-16 program and the overall modernization of Ukraine's air force. Ukraine will have no difficulty absorbing these articles and services into its armed forces.

The proposed sale of this equipment and support will not alter the basic military balance in the region.

The principal contractors will be Valiant Integrated Services, located in Herndon, VA; Top Aces Corporation, located in Mesa, AZ; Lockheed Martin Aeronautics, located in Fort Worth, TX; Pratt and Whitney, located in East Hartford, CT; Snap-on, Inc., located in Kenosha, WI; BAE Systems, Inc., located in Falls Church, VA; AAR Corporation, located in Wood Dale, IL; and Comsetra, LLC, located in Grove, OK. At this time, the U.S. Government is not aware of any offset agreement proposed in connection with this potential sale. Any offset agreement will be defined in negotiations between the purchaser and the contractor.

Implementation of this proposed sale will not require the assignment of any additional U.S. Government or contractor representatives to Ukraine.

There will be no adverse impact on U.S. defense readiness as a result of this proposed sale.

[FR Doc. 2026-00713 Filed 1-14-26; 8:45 am]

BILLING CODE 6001-FR-P